DEPARTMENT OF THE INTERIOR

Bureau of Land Management

[NM-010-1430-EU/1430-HN; NM 101522]

Notice of Availability of a Draft Environmental Impact Statement (EIS) for a Proposed Land Exchange with the Pueblo of San Felipe; Albuquerque Field Office, New Mexico

AGENCY: Bureau of Land Management, Interior.

ACTION: Notice.

SUMMARY: The Bureau of Land Management (BLM) Albuquerque Field Office has completed a Draft EIS. This document describes and analyzes three alternatives for a land exchange involving public land south of County Road 252 A (formerly State Road 22) and east of the Tejon Grant and private lands of equal value, yet to be identified, within high priority acquisition areas (as identified in the Rio Puerco and the Taos Resource Management Plans [RMPs]). The alternatives are: (A) Proposed Action (exchange approximately 9,460 acres of public lands with restrictive covenants), (B) Exchange of the proposed action acreage plus an additional 1,447 acres of public lands with restrictive covenants, and (C) No Action Alternative (the exchange proposal would be rejected).

The following described public lands were analyzed for disposal through exchange to the San Felipe Pueblo by the United States:

New Mexico Principal Meridian

T. 13 N., R. 6 E.,

Sec. 1, lots 8 to 12 and 14;

Sec. 3, lots 1 to 4, inclusive, S½N½, E½SE¼ and W½SW¼;

Sec. 7, SE¼SW¼;

Sec. 8, E½;

Secs. 9 and 10;

Sec. 14, N½ and SW¼;

Sec. 15,

Sec. 16, S½NW¼;

Sec. 17, S½NE¼;

Sec. 21, lots 10 to 13, inclusive, NE¼NE¼ and NE¼SE¼;

Sec. 22, N½ and N½S½;

Sec. 23, W½W½;

Sec. 25, NW¼ and W½SW¼;

Sec. 26, S½;

Sec. 27, S½NE¼, W½SW¼, SE¼SW¼, E½SE¼ and SW¼SE¼;

Sec. 28, lots 1to 9, inclusive, E½;

Sec. 34, E½;

Sec. 35, N½ and W½SW¼;

Sec. 36, SW¼NW¼ and W½SW¼.

T. 14 N., R. 6 E.,

Sec. 22, lots 2 to 10, inclusive, W½;

Sec. 23, lot 5;

Sec. 26, lots 3 to 5 and 10 to 14;

Sec. 27, N½, NE¼SW¼, N½NW¼SW¼, NE¼SE¼NW¼SW¼, NW¼SW¼NW¼SW¼, S½S½NW¼SW¼, S½SW¼ and SE¼.

Sec. 34, N½;

Sec. 35, lots 3, 4, 9, 10, inclusive, W½.

T. 13 N., R. 7 E.,

Sec. 6, lot 13;

Sec. 7, lots 8 to 10 and 13.

Sec. 18, lots 1 to 3, inclusive, W½NW¼, and NW¼SW¼;

Sec. 31, lots 1 to 4, inclusive, W½W½.

The areas described aggregate 9,459.03 acres.

In this proposed exchange, the United States would acquire an equal value of lands, yet to be identified, within or adjacent to the BLM Wilderness Study Areas (WSA), Areas of Critical Environmental Concern (ACEC), Special Management Areas and/or other BLM high priority acquisition areas.

DATES: Written comments must be postmarked no later than June 5, 2001. A public scoping meeting will be held at the Office of the Bureau of Land Management, 435 Montano NE., Albuquerque, New Mexico from 4:00 p.m. to 7:00 p.m. on May 10, 2001.

ADDRESSES: Written comments should be sent to: the Albuquerque Field Manager, BLM, Albuquerque Field Office, 435 Montano NE., Albuquerque, New Mexico 87107. The public scoping meeting will be held in the main conference room at the Albuquerque Field Office at the above address.

Copies are available for review at the Albuquerque Field Office and at the following address on the Internet: www.nm.blm.gov. Additional copies are available at the following BLM New Mexico offices: New Mexico State Office, 1474 Rodeo Road, Santa Fe and; Taos Field Office, 226 Cruz Alta Road, Taos.

FOR FURTHER INFORMATION CONTACT: Debby Lucero, BLM Albuquerque Field Office, at the above address or telephone (505) 761-8787, fax (505) 761-8911.

SUPPLEMENTARY INFORMATION: The following issues have been addressed in the environmental analysis: (1) Ecological Sites/Vegetation, (2) Threatened, Endangered and Other Special Status Species, (3) Water Resources, (4) Wildlife, (5) Geology/Paleontology, (6) Minerals, (7) Land Uses, (8) Wilderness, (9) Recreation, (10) Visual Resources, (11) Hazardous Materials, (12) Cultural Resources, (13) American Indian Uses, (14) Rangeland Management and, (15) Socio-economic Conditions.

All of the federal lands in the Albuquerque Field Office are identified in a lower class retention zone that may be disposed of only for lands in a higher class retention zone.

The lands to be acquired by the BLM through this exchange are in high class retention areas, supporting their acquisition through exchange of lower class retention lands to the Pueblo.

S.W. Anderson,
Acting Albuquerque Field Office Manager.

[FR Doc. 01-9061 Filed 4-11-01; 8:45 am]

BILLING CODE 4310-AG-P